FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 012098-001.

Title: Mitsui CSAV/”K” Line Mexico/U.S. Atlantic Space Charter Agreement.

Parties: Compania Sud American de Vapores S.A. and Kawasaki Kisen Kaisha, Ltd.

Filing Parties: John P. Meade, Esq.; Vice-President; K- Line America, Inc.; 6009 Bethlehem Road; Preston, MD 21655.

Synopsis: The amendment allows for the reciprocal chartering of space between the parties.

By Order of the Federal Maritime Commission.
Dated: September 23, 2011.
Rachel E. Dickon,
Assistant Secretary.

[FR Doc. 2011-24976 Filed 9-27-11; 8:45 am]

BILLING CODE 6730-01-P